DEPARTMENT OF DEFENSE

Office of the Secretary

Notice of Removal of Designated Chinese Military Companies and Notice of Designation of Chinese Military Company; Supplemental Notice

AGENCY: Office of the Under Secretary of Defense (Acquisition and Sustainment), Department of Defense (DoD).

ACTION: Notice of removal of a company from the 2023 Section 1260H List of Chinese Military Companies Operating in the United States and notice of designation of Chinese Military Company; supplemental notice.

SUMMARY: On Wednesday, October 23, 2024, the DoD published two notices entitled “Notice of Removal of Designated Chinese Military Companies” and “Notice of Designation of Chinese Military Company.” The notices were inadvertently published in the wrong order. Please see the SUPPLEMENTARY INFORMATION section for details.

DATES: This correction is effective October 29, 2024.

FOR FURTHER INFORMATION CONTACT: Patricia Toppings, 571-372-0485.

SUPPLEMENTARY INFORMATION: On Wednesday, October 23, 2024, the DoD published two notices entitled “Notice of Removal of Designated Chinese Military Companies” and “Notice of Designation of Chinese Military Company.”

The notice titled “Notice of Designation of Chinese Military Company” appeared at 89 FR 84547-84548. The notice titled “Notice of Removal of Designated Chinese Military Companies” appeared at 89 FR 84555.

On Wednesday, October 23, 2024, the DoD published two notices entitled “Notice of Removal of Designated Chinese Military Companies” and “Notice of Designation of Chinese Military Company.” The notices were inadvertently published in the wrong order. The notice titled “Notice of Removal of Designated Chinese Military Companies” should have published in the Federal Register before the notice titled “Notice of Designation of Chinese Military Company,” to publicly reflect that Hesai Technology Co., Ltd. (Hesai), the designated company, was removed from the Chinese Military Companies list on the basis of the original listing record and then added to the list on a new record based on the latest information available. This supplemental notice is necessary to clearly identify that Hesai is currently included on the Chinese Military Companies list. The Department is reprinting both notices in the correct order.

Dated: October 24, 2024.
Aaron T. Siegel,
Alternate OSD Federal Register Liaison Officer, Department of Defense.

[FR Doc. 2024-25167 Filed 10-28-24; 8:45 am]

BILLING CODE 6001-FR-P